SMALL BUSINESS ADMINISTRATION

[Disaster Declaration #14603 and #14604]

Missouri Disaster #MO-00078

AGENCY: U.S. Small Business Administration.

ACTION: Notice.

SUMMARY: This is a Notice of the Presidential declaration of a major disaster for the State of MISSOURI (FEMA-4250-DR), dated 01/21/2016.

Incident: Severe Storms, Tornadoes, Straight-line Winds & Flooding.

Incident Period: 12/23/2015 through 01/09/2016.

Effective Date: 01/21/2016.

Physical Loan Application Deadline Date: 03/21/2016.

Economic Injury (EIDL) Loan Application Deadline Date: 10/21/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 01/21/2016, applications for disaster loans may be filed at the address listed above or other locally announced locations.

The following areas have been determined to be adversely affected by the disaster:

Primary Counties (Physical Damage and Economic Injury Loans)

BARRY, BARTON, CAMDEN, CAPE GIRARDEAU, COLE, CRAWFORD, FRANKLIN, GASCONADE, GREENE, HICKORY, JASPER, JEFFERSON, LACLEDE, LAWRENCE, LINCOLN, MARIES, MCDONALD, MORGAN, NEWTON, OSAGE, PHELPS, POLK, PULASKI, SAINT CHARLES, SAINT FRANCOIS, SAINT LOUIS, SAINTE GENEVIEVE, SCOTT, STONE, TANEY, TEXAS, WEBSTER, WRIGHT.

Contiguous Counties (Economic Injury Loans Only)

MISSOURI: BENTON, BOLLINGER, BOONE, CALLAWAY, CEDAR, CHRISTIAN, COOPER, DADE, DALLAS, DENT, DOUGLAS, HOWELL, IRON, MADISON, MILLER, MISSISSIPPI, MONITEAU, MONTGOMERY, NEW MADRID, OZARK, PERRY, PETTIS, PIKE, SAINT CLAIR, SAINT LOUIS CITY, SHANNON, STODDARD, VERNON, WARREN, WASHINGTON.

ARKANSAS: BENTON, BOONE, CARROLL, MARION.

ILLINOIS: ALEXANDER, CALHOUN, JERSEY, MADISON, MONROE, RANDOLPH, SAINT CLAIR, UNION.

KANSAS: CHEROKEE, CRAWFORD.

OKLAHOMA: DELAWARE, OTTAWA.

The Interest Rates are:

For Physical Damage

| Percent
Homeowners with Credit Available Elsewhere | 3.625
Homeowners without Credit Available Elsewhere | 1.813
Businesses with Credit Available Elsewhere | 6.000
Businesses without Credit Available Elsewhere | 4.000
Non-Profit Organizations with Credit Available Elsewhere | 2.625
Non-Profit Organizations without Credit Available Elsewhere | 2.625

For Economic Injury

| Percent
Businesses & Small Agricultural Cooperatives without Credit Available Elsewhere | 4.000
Non-Profit Organizations without Credit Available Elsewhere | 2.625

The number assigned to this disaster for physical damage is 14603B and for economic injury is 146040.

(Catalog of Federal Domestic Assistance Numbers 59002 and 59008)

James E. Rivera,
Associate Administrator for Disaster Assistance.

[FR Doc. 2016-02154 Filed 2-3-16; 8:45 am]

BILLING CODE 8025-01-P